DEPARTMENT OF ENERGY

Federal Energy Regulatory Commission

[Docket No. IC24-14-000]

Commission Information Collection Activities (Ferc-921); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-921, Ongoing Electronic Delivery of Data from Regional Transmission Organization and Independent System Operators (OMB Control Number 1902-0257), which will be submitted to Office of Management and Budget (OMB).

DATES: Comments on the collection of information are due August 1, 2024.

ADDRESSES: Send written comments on FERC-921 to OMB through www.reginfo.gov/public/do/PRAMain, Attention: Federal Energy Regulatory Commission Desk Officer. Please identify the OMB control number (1902-0257) in the subject line. Your comments should be sent within 30 days of publication of this notice in the Federal Register.

Please submit copies of your comments (identified by Docket No. IC24-14-000) to the Commission as noted below. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions:

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Jean Sonneman may be reached by email at DataClearance@FERC.gov and telephone at (202) 502-6362.

Title: FERC-921, Ongoing Electronic Delivery of Data from Regional Transmission Organizations and Independent System Operators.

OMB Control No.: 1902-0257.

Type of Request: Three-year extension of the FERC-921 information collection requirements with no changes to the current reporting requirements.

Abstract: The collection of data in FERC-921 is an effort by the Commission, implemented under Order No. 760,¹ to detect potential anti-competitive or manipulative behavior or ineffective market rules. In Order No. 760, the Commission issued 18 CFR 35.28(g)(4), which requires ongoing electronic delivery of data by each Commission-approved Regional Transmission Organization (RTO) and Independent System Operator (ISO). The required data include physical and virtual offers and bids, market awards, resource outputs, marginal cost estimates, shift factors, financial transmission rights, internal bilateral contracts, uplift, and interchange pricing. Although provision was made by the Commission that market monitoring units (MMUs) may provide datasets, all data for this collection has (and is expected to continue to) come from each RTO or ISO and not the MMUs. Therefore, any associated burden is counted as burden on RTOs and ISOs.

¹ Enhancement of Electricity Market Surveillance and Analysis through Ongoing Electronic Delivery of Data from Regional Transmission Organizations and Independent System Operators, Order No. 760, 77 FR 26674 (May 7, 2012).

While the ongoing delivery of data under FERC-921 is continuous and routine, each RTO or ISO makes sporadic changes to its individual market with Commission approval. When those changes occur, the RTO or ISO may need to change the data being routinely sent to the Commission to ensure compliance with Order No. 760. Such changes typically require respondents to alter the ongoing delivery of data under FERC-921. The burden associated with a change varies considerably based on the significance of the specific change; therefore, the estimate below is intended to reflect the incremental burden for an average change. Based on historical patterns, Commission staff estimates there to be about one and a half changes of this nature per RTO or ISO per year.

The Commission published a 60-day Paperwork Reduction Act Notice on April 24, 2024 (89 FR 31197). The public comment period ended on June 24, 2024. The Commission received no public comments in response.

Types of Respondent: Regional Transmission Organizations (RTOs) and Independent System Operators (ISOs).

Estimate of Annual Burden: ² The Commission estimates the total annual burden and cost for this information collection by calculating the total hourly cost (including both mean wages and benefits) of three occupations ³ and then by multiplying that total hourly cost by the number of hours needed for each response. Specifically, the total hourly cost applied in this calculation is $88.03, calculated as the sum of weighted mean hourly wages and benefits of the following occupations:

² “Burden” is the total time, effort, or financial resources expended by persons to generate, maintain, retain, or disclose or provide information to or for a Federal agency. For further explanation of what is included in the information collection burden, refer to 5 CFR 1320.3.

³ Hourly costs (for wages and benefits) are based on mean wage estimates by the Bureau of Labor Statistics' (BLS) Occupational Employment and Wage Statistics (OEWS) program from May 2023 for Utilities (https://www.bls.gov/oes/current/naics2_22.htm) and benefits information for private industry workers (released March 2023) for private industry workers (https://www.bls.gov/news.release/ecec.nr0.htm).

• Computer Systems Analysts (Occupation Code: 15-1211): $56.57 (base hourly wage) ÷ 70.7% (benefits) = $80.01 × 75 percent of the time needed for each response = $60.0075;

• Legal (Occupation Code: 23-0000): $104.10 (base hourly wage) ÷ 70.7% (benefits) = $147.24 × 12.5 percent of the time needed for each response = $18.405; and

• Database Administrators (Occupation Code: 15-1242): $54.40 (base hourly wage) ÷ 70.7% (benefits) = $76.94 × 12.5 percent of the time needed for each response = $9.6175.

The burden estimates are as follows:

⁴ Each RTO/ISO electronically submits data daily. To match past information collection requests, we are considering the collection of daily responses to be a single response, except in cases of a data delivery change.

⁵ The hour burden associated with a “Data Delivery Change Over the Year” varies considerably based on the significance of the specific change; therefore, the estimate is intended to reflect the incremental burden for an average change. Based on historical patterns, staff estimates there to be about 1.5 changes of this nature per RTO or ISO per year. Based on our experience, we estimate that the total time required for a single change is 320 hours, and there are, on average, 1.5 changes annually, the estimated total time for this category of response is 480 hours (1.5 × 320 hours).

Category | Number of respondents | Annual number of responses per respondent | Total number of responses | Average burden & cost per response | Total annual burden hours & cost | Annual cost per respondent ($)
| (1) | (2) | (1) * (2) = (3) | (4) | (3) * (4) = (5) | (5) ÷ (1)
Ongoing Electronic Delivery of Data | 6 | 1 | ⁴ 6 | 52 hrs.; $4,577.56 | 312 hrs.; $27,465.36 | $4,577.56
Data Delivery Changes Over the Year ⁵ | 6 | 1 | 6 | 480 hrs.; $42,254.40 | 2,880 hrs.; $253,526,40 | 42,254.40
Total | 6 | 2 | 12 |  | 3,192 hrs.; $280,991.76 | 46,831.96

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 25, 2024.
Debbie-Anne A. Reese,
Acting Secretary.

[FR Doc. 2024-14508 Filed 7-1-24; 8:45 am]

BILLING CODE 6717-01-P